DEPARTMENT OF TRANSPORTATION

Federal Railroad Administration

[Docket No. FRA-2000-7257, Notice No. 86]

Railroad Safety Advisory Committee; Notice of Meeting

AGENCY: Federal Railroad Administration (FRA), Department of Transportation (DOT).

ACTION: Notice of Railroad Safety Advisory Committee (RSAC) System Safety Task Force and Passenger Safety Working Group meeting.

SUMMARY: FRA announces a meeting of the RSAC, a Federal Advisory Committee that develops recommendations on railroad safety regulations and other railroad safety issues through a consensus process. The RSAC System Safety Task Force and Passenger Safety Working Group will meet October 30, 2017, to discuss petitions for reconsideration, and comments received in response to the petitions for reconsideration on the System Safety Program (SSP) final rule issued August 12, 2016, requiring commuter and intercity passenger railroads to develop and implement an SSP to improve the safety of their operations.

DATES: The RSAC meeting is scheduled to commence at 9:00 a.m. on Monday, October 30, 2017, and will adjourn by 4:30 p.m.

ADDRESSES: The RSAC meeting will be held at the National Association of Home Builders, National Housing Center, located at 1201 15th Street NW., Washington, DC 20005. The meeting is open to the public on a first-come, first-served basis, and is accessible to individuals with disabilities. Sign- and oral interpretation can be made available if requested 10 calendar days before the meeting.

FOR FURTHER INFORMATION CONTACT: Kenton Kilgore, RSAC Administrative Officer/Coordinator, FRA, 1200 New Jersey Avenue SE., Mailstop 25, Washington, DC 20590, (202) 493-6286; or Robert C. Lauby, Associate Administrator for Railroad Safety and Chief Safety Officer, FRA, 1200 New Jersey Avenue SE., Mailstop 25, Washington, DC 20590, (202) 493-6474.

SUPPLEMENTARY INFORMATION: Pursuant to Section 10(a)(2) of the Federal Advisory Committee Act (Pub. L. 92-463), FRA is giving notice of a meeting of the RSAC. FRA is publishing this notice in the Federal Register as soon as practicable, which will not be at least 15 days prior to the RSAC meeting. FRA has determined that exceptional circumstances justify holding the RSAC meeting on October 30, 2017, as explained below. See 41 CFR 102-3.150. FRA believes that the public will have adequate notice of the meeting because this notice will be posted on FRA's public Web site and will be filed for public inspection by the Office of the Federal Register at least 15 days before the RSAC meeting.

FRA published the SSP final rule on August 12, 2016. 81 FR 53850. On February 10, 2017, FRA stayed the SSP final rule's requirements consistent with the new Administration's guidance issued January 20, 2017, to provide the Administration an adequate opportunity to review new and pending regulations (82 FR 10443). FRA thereafter extended the stay to provide additional time for review. See 82 FR 14476, March 21, 2017; 82 FR 23150, May 22, 2017. The review includes petitions for reconsideration of the SSP final rule. FRA most recently stayed the final rule until December 4, 2017, to allow time for public outreach with interested parties to inform FRA's decisions on the issues raised in the petitions, and to complete review of the rule and the petitions (82 FR 26359). The October 30, 2017, RSAC meeting is necessary for FRA to receive input from industry and the public, and to discuss potential paths forward to respond to the petitions for reconsideration prior to FRA taking final action. FRA has previously made stakeholders aware that the RSAC meeting will be held on October 30, 2017 and interested persons have made plans accordingly. FRA believes that delaying the meeting any further would endanger its ability to receive vital public comment informing actions on the petitions under review and, therefore believes that providing less than 15 days notice for this meeting best serves the public interest and, with the mitigations applied here, is consistent with the exception for exceptional circumstances discussed above.

The RSAC was established to provide advice and recommendations to FRA on railroad safety matters. The RSAC is composed of 59 voting representatives from 38 member organizations, representing various rail industry perspectives. In addition, there are non-voting advisory representatives from the agencies with railroad safety regulatory responsibility in Canada and Mexico, the National Transportation Safety Board, and the Federal Transit Administration. The diversity of the Committee ensures the requisite range of views and expertise necessary to discharge its responsibilities. See the RSAC Web site for details on prior RSAC activities and pending tasks at http://rsac.fra.dot.gov/. Please refer to the notice published in the Federal Register on March 11, 1996 (61 FR 9740), for additional information about the RSAC.

Issued in Washington, DC, on October 11, 2017.
Robert C. Lauby,
Associate Administrator for Railroad Safety, Chief Safety Officer.

[FR Doc. 2017-22368 Filed 10-13-17; 8:45 am]

BILLING CODE 4910-06-P